DEPARTMENT OF DEFENSE

Office of the Secretary

National Commission on the Future of the Army; Notice of Federal Advisory Committee Meeting

AGENCY: Deputy Chief Management Officer, Department of Defense (DoD).

ACTION: Notice of Federal Advisory Committee Meeting.

SUMMARY: The DoD is publishing this notice to announce the meeting of the National Commission on the Future of the Army (“the Commission”). The meeting will be partially closed to the public.

DATES: Date of the Closed Meeting, including Hearing: Tuesday, May 19, 2015, from 7:30 a.m. to 5:30 p.m.

Date of the Open Meeting, including Hearing and Commission Discussion: Wednesday, May 20, 2015, from 8:30 a.m. to 5:00 p.m.

ADDRESSES: Address of Closed Meeting, May 19: Room 3D684, Pentagon, Washington, DC 20310. Address of Open Meeting, May 20: 12th Floor, Room 12158, James Polk Building, 2521 S. Clark St., Arlington, VA 22202.

FOR FURTHER INFORMATION CONTACT: Mr. Don Tison, Designated Federal Officer, National Commission on the Future of the Army, 700 Army Pentagon, Room 3E406, Washington, DC 20310-0700, Email: dfo.ncfa@ncfa.ncr.gov. Desk: (703) 692-9099. Facsimile: (703) 697-8242.

SUPPLEMENTARY INFORMATION: Due to circumstances beyond the control of the Designated Federal Officer and the Department of Defense, the National Commission on the Future of the Army was unable to provide public notification of its meeting of May 19-20, 2015, as required by 41 CFR 102-3.150(a). Accordingly, the Advisory Committee Management Officer for the Department of Defense, pursuant to 41 CFR 102-3.150(b), waives the 15-calendar day notification requirement. This meeting will be held under the provisions of the Federal Advisory Committee Act (FACA) of 1972 (5 U.S.C., Appendix, as amended), the Government in the Sunshine Act of 1976 (5 U.S.C. 552b, as amended), and 41 CFR 102-3.150.

Purpose of Meetings: During the closed meeting on Tuesday, May 19, 2015, the Commission will hear testimony from individual witnesses and engage in discussion on the operational environment, defense guidance, force requirements, and operational readiness. During the open meeting on Wednesday, May 20, 2015, the Commission will hear testimony from individual witnesses and immediately afterwards discuss the testimony provided; identify requests for information; and other topics raised from the two meetings.

Agendas: May 19, 2015—Closed Hearing: DoD military leaders will speak at the closed hearing on May 19, 2015 and have been asked to address the analytical basis, assumptions and debates that affected the Army's force structure for FY2016, future operational environments and threats for the land forces (Classified), Force Requirements from the Defense Planning Guidance (Classified), Global Employment of the Force (Classified), Global Force Integration Matrix (Classified), Combatant Command Integrated Priorities (Classified), and national security matters pertaining to the Regular Army, the Army National Guard, and the Army Reserve impacting the capabilities and force structure of the total Army. DoD speakers will also provide information on the roles, missions and capabilities of the various DoD components and how they contribute to the national defense strategy, the integration of force requirements, and DoD's strategies and capabilities to address conflicts and threats. Speakers include, but are not limited to, the Secretary and Chief of Staff of the Army; the Chief of the National Guard Bureau; Director, Army National Guard; the Chief of the Army Reserve; and representatives from the Joint Chiefs of Staff, Office of the Secretary of Defense/Policy, and the Defense Intelligence Agency. All presentations and resulting discussion are classified.

May 20, 2015—Public Hearing: Congressional representatives, DoD leaders, and professional military associations are invited to speak at the public hearing on May 20, 2015 and are asked to address matters pertaining to the Army, Army National Guard, and Army Reserve, such as their common and unique interests, roles, history, organizational structure, and operational factors influencing decision-making, as well as the transfer of certain aircraft between the Army components. These witnesses are also asked to address the criteria the Commission must consider pursuant to section 1703 of the Carl Levin and Howard P. “Buck” McKeon National Defense Authorization Act for Fiscal Year 2015 (Public Law 113-291)—(a) meet current and anticipated requirements of the combatant commands; (b) achieve cost-efficiency between the regular and reserve components of the Army, manages military risk, takes advantage of the strengths and capabilities of each, and considers fully burdened lifecycle costs; (c) ensure that the regular and reserve components of the Army have the capacity needed to support current and anticipated homeland defense and disaster assistance missions in the United States; (d) provide for sufficient numbers of regular members of the Army to provide a base of trained personnel from which the personnel of the reserve components of the Army could be recruited; (e) maintain a peacetime rotation force to avoid exceeding operational tempo goals of 1:2 for active members of the Army and 1:5 for members of the reserve components of the Army; and (f) manage strategic and operational risk by making tradeoffs among readiness, efficiency, effectiveness, capability, and affordability. The Commission Chairman will provide an update on Commission activities, and individual Commissioners will, if applicable, report their activities, information collection, and analyses to the full Commission.

Meeting Accessibility: In accordance with applicable law, 5 U.S.C. 552b(c), and 41 CFR 102-3.155, the DoD has determined that the meeting scheduled for May 19, 2015 will be closed to the public. Specifically, the Assistant Deputy Chief Management Officer, with the coordination of the DoD FACA Attorney, has determined in writing that this portion of the meeting will be closed to the public because it will discuss matters covered by 5 U.S.C. 552b(c)(1). Pursuant to 41 CFR 102-3.140 through 102-3.165 and the availability of space, the meeting scheduled for May 20, 2015 at the James Polk building is open to the public. Seating is limited and pre-registration is strongly encouraged. Media representatives are also encouraged to register. Members of the media must comply with the rules of photography and video filming in the James Polk Building. The closest public parking facility is located in the basement and along the streets. Visitors will be required to present one form of photograph identification. Visitors to the James Polk Office Building will be screened by a magnetometer, and all items that are permitted inside the building will be screened by an x-ray device. Visitors should keep their belongings with them at all times. The following items are strictly prohibited in the James Polk Office Building: any pointed object, e.g., knitting needles and letter openers (pens and pencils are permitted.); any bag larger than 18″ wide x 14″ high x 8.5″ deep; electric stun guns, martial arts weapons or devices; guns, replica guns, ammunition and fireworks; knives of any size; mace and pepper spray; razors and box cutters.

Written Comments: Pursuant to section 10(a)(3) of the FACA and 41 CFR 102-3.105(j) and 102-3.140, the public or interested organizations may submit written comments to the Commission in response to the stated agenda of the open and/or closed meeting or the Commission's mission. The Designated Federal Officer (DFO) will review all submitted written statements. Written comments should be submitted to Mr. Donald Tison, DFO, via facsimile or electronic mail, the preferred modes of submission. Each page of the comment should include the author's name, title or affiliation, address, and daytime phone number. All comments received before Wednesday, May 13, 2015, will be provided to the Commission before the May 20, 2015 meeting. Comments received after Wednesday, May 13, 2015, will be provided to the Commission prior to its next meeting. All contact information may be found in the FOR FURTHER INFORMATION CONTACT section.

Oral Comments: In addition to written statements, one and one half hours will be reserved for governmental entities, individuals or interest groups to address the Commission on May 20, 2015. Those interested in presenting oral comments to the Commission should summarize their oral statement in writing and submit with their registration. The Commission's staff will assign a time to the presenter of an oral comment at the meeting and each commenter will have equal time, which will not exceed five minutes. While requests to make an oral presentation to the Commission will be honored on a first come, first served basis, other opportunities for oral comments will be provided at future meetings.

Registration: Individuals and entities who wish to attend the public hearing and meeting on Wednesday, May 20, 2015 are encouraged to register for the event with the DFO using the electronic mail and facsimile contact information found in the FOR FURTHER INFORMATION CONTACT section. The communication should include the registrant's full name, title, affiliation or employer, email address, day-time phone number. This information will assist the Commission in contacting individuals should it decide to do so at a later date. If applicable, include written comments and a request to speak during the oral comment session. (Oral comment requests must be accompanied by a summary of your presentation.) Registrations and written comments should be typed.

Additional Information: The DoD sponsor for the Commission is the Deputy Chief Management Officer. The Commission is tasked to submit a report, containing a comprehensive study and recommendations, by February 1, 2016 to the President of the United States and the Congressional defense committees. The report will contain a detailed statement of the findings and conclusions of the Commission, together with its recommendations for such legislation and administrative actions it may consider appropriate in light of the results of the study. The comprehensive study of the structure of the Army will determine whether, and how, the structure should be modified to best fulfill current and anticipated mission requirements for the Army in a manner consistent with available resources.

Dated: May 4, 2015.
Aaron Siegel,
Alternate OSD Federal Register Liaison Officer, Department of Defense.

[FR Doc. 2015-11076 Filed 5-7-15; 8:45 am]

BILLING CODE 5001-06-P